DEPARTMENT OF HOMELAND SECURITY

Federal Emergency Management Agency

[Docket ID FEMA-2025-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of May 6, 2025 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Assistant Administrator (Acting) for Risk Management, Federal Emergency Management Agency, Department of Homeland Security.

Community | Community map repository address
St. Mary's County, Maryland and Incorporated Areas
Docket No.: FEMA-B-2345
Town of Leonardtown | Town Hall, 22670 Washington Street, Leonardtown, MD 20650.
Unincorporated Areas of St. Mary's County | St. Mary's County Department of Land Use and Growth Management, 23150 Leonard Hall Drive, Leonardtown, MD 20650.
Logan County, North Dakota and Incorporated Areas
Docket No.: FEMA-B-2356
City of Napoleon | City Hall, 225 Lake Avenue W, Napoleon, ND 58561.
Unincorporated Areas of Logan County | Logan County Courthouse, 301 Broadway Street, Napoleon, ND 58561.
Davison County, South Dakota and Incorporated Areas
Docket No.: FEMA-B-2396
City of Mitchell | City Hall, 612 North Main Street, Mitchell, SD 57301.
City of Mount Vernon | Davison County Emergency Management, 200 East 4th Avenue, Mitchell, SD 57301.
Town of Ethan | Town Office, 201 West Main Street, Ethan, SD 57334.
Unincorporated Areas of Davison County | Davison County Emergency Management, 200 East 4th Avenue, Mitchell, SD 57301.
Lunenburg County, Virginia and Incorporated Areas
Docket No.: FEMA-B-2392
Unincorporated Areas of Lunenburg County | Lunenburg County Administration Office, 11413 Courthouse Road, Lunenburg, VA 23952.

[FR Doc. 2025-01021 Filed 1-15-25; 8:45 am]

BILLING CODE 9110-12-P